DEPARTMENT OF DEFENSE

Department of the Army

[Docket ID USA-2010-0006]

Privacy Act of 1974; System of Records

AGENCY: Department of the Army, DoD.

ACTION: Notice to alter a system of records.

SUMMARY: Department of the Army is proposing to alter a system of records notices in its existing inventory of record systems subject to the Privacy Act of 1974, (5 U.S.C. 552a), as amended.

DATES: This proposed action will be effective without further notice on May 24, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: Department of the Army notices for systems of records subject to the Privacy Act of 1974 (5 U.S.C. 552a), as amended, have been published in the Federal Register and are available from the Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on April 9, 2010, to the House Committee on Government Reform, the Senate Committee on Homeland Security and Governmental Affairs, and the Office of Management and Budget (OMB) pursuant to paragraph 4c of Appendix I to OMB Circular No. A-130, “Federal Agency Responsibilities for Maintaining Records About Individuals” (February 20, 1996; 61 FR 6427).

Dated: April 19, 2010.
Mitchell S. Bryman,
Alternate OSD Federal Register Liaison Officer, Department of Defense.

A0600-8-101

System name:

Military and Civilian Out-Processing Files (May 11, 2004; 69 FR 26080)

* * * * *

Changes:

System name:

Delete entry and replace with “Installation Support Module Records.”

System location:

Delete entry and replace with “For systems maintained by Program Executive Office Enterprise Information Systems:

Project Director for Installation Management Systems—Army 200 Stovall Street, Alexandria, Virginia, 22332-6200.

For application and database servers that support the Installation Support Modules system:

U.S. Army Signal Network Enterprise Center—Fort Belvoir 10105 Gridley Road, Fort Belvoir, VA 22060-5840.

U.S. Army Signal Network Enterprise Center—Fort Huachuca 2133 Cushing Street, Bldg 61801, Fort Huachuca, AZ 85613-7008.

Individual Installation Support Modules application:

Central Issue Facility (CIF): Property book offices and Central Issue Facilities' supply rooms at most Army activities world-wide, Active Army training activities, National Guard Armories, and U.S. Army Reserve units.

In/Out Processing (In/Out Proc): Administrative offices and Army Staff agencies, field operating commands, installations and/or activities Army wide.

Transition Processing (TRANSPROC): Transition Centers at Active Army, Army National Guard and U.S. Army Reserve Installations world-wide.

Personnel Locator: Segments are maintained by mailrooms and/or Army telephone information operators at Headquarters, Department of the Army, Staff and field operating agencies, commands, installations and activities.

Official mailing addresses are published as an appendix to the Army's compilation of systems of records notices.

Education Management Information System (EDMIS): Education Centers at Army installations and a centralized automated education registry transcript system is maintained Army Human Resources Command, 200 Stovall Street, Alexandria, VA 22332-6200.”

Categories of individuals covered by the system:

Delete entry and replace with “Active duty Army, Army Reserve and Army National Guard personnel and in some cases their family members.

Additionally, individual applications cover the following categories:

Central Issue Facility (CIF): Civilian or other than Army military personnel who assume temporary custody or responsibility for United States Government property at Army.

Installation's Central Issue Facilities worldwide. Personnel Locator (PERSLOC): Department of the Army civilian employees, and in some instances their dependents.

Education Management Information System (EDMIS): Civilian employees, and in some instances their dependents.”

Categories of records in the system:

Delete entry and replace with “Name, other names used, Social Security Number (SSN), citizenship, gender, race/ethnicity, birth date, marital status, financial information, medical information, law enforcement information, employment information, military records, education information, Army Knowledge Online (AKO)user id, living or deceased, military/civilian/foreign national skills. In addition to the data elements, individual applications maintain the following data:

Central Issue Facility (CIF): Clothing/Equipment issued to Soldiers or other than Army military personnel who assume temporary custody or responsibility for United States Government property.

In/Out Processing (In/Out Proc): Soldiers' personal cell phone number, home telephone number, personal e-mail address, mailing/home address, emergency contact, mother's maiden name, spouse information, and child information.

Transition Processing (TRANSPROC): Soldiers' personal cell phone number, home telephone number, personal e-mail address, mailing/home address, emergency contact, mother's maiden name, spouse information, child information, disability information, and awards.

Personnel Locator (PERSLOC): Soldiers' mailing/home address, emergency contact.

Education Management Information System (EDMIS): Soldiers' personal cell phone number, home telephone number, personal e-mail address, mailing/home address, emergency contact, certifications/licensures.”

Authority for maintenance of the system:

Delete entry and replace with “5 U.S.C. 301, Departmental Regulations; 10 U.S.C. 3013, Secretary of the Army; 10 U.S.C. 136, Under Secretary of Defense for Personnel and Readiness; DoD Instruction 1322.25, Voluntary Education Programs; DoD Instruction 1336.01, Certificate of Release or Discharge from Active Duty (DD Form 214/215 Series); Army Regulation 735-5, Policies and Procedures for Property Accountability; and E.O. 9397 (SSN), as amended.”

Purpose(s):

Delete entry and replace with “Provides an automated business practice for processing Soldiers, and selected civilians, to include focusing on Soldier readiness activities, in/out processing of Soldiers and family members, personnel location, management of educational records, issue and turn-in of organizational clothing and individual equipment, and Soldier transition.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

Education Management Information System (EDMIS): Information is disclosed to the Department of Labor, Bureau of Apprenticeship and Training for individuals enrolled in an Army Apprenticeship Program for the purpose of identifying Soldier's education and work qualifications for entry into the Department of Labor's Registered Apprenticeship Programs. Department of Labor's Registered Apprenticeship Programs help mobilize America's workforce with structured, on-the-job learning in traditional industries such as construction and manufacturing, as well as new emerging industries such as health care, information technology, energy, telecommunications and more.

Transition Processing (TRANSPROC): DD Form 214, Certificate of Release or Discharge from Active Duty, for Soldiers separating from the active Army is forwarded to Department of Veterans Affairs, Department of Labor, and State Directors of Veterans Affairs for the purpose of obtaining veterans benefits, re-employment rights and unemployment insurance.”

Policies and practices for storing, retrieving, accessing, retaining, and disposing of records in the system:

Storage:

Delete entry and replace with “Electronic storage media.”

Retrievability:

Delete entry and replace with “All applications are retrieved by individual's name and Social Security Number (SSN).”

Safeguards:

Delete entry and replace with “Records are protected from unauthorized disclosure by storage in areas accessible only to authorized personnel within buildings secured by locks or guards. The server hosting the database is also protected behind firewalls and uses encryption during any data transfer. Access to data by the users is restricted by the Web application itself and is further limited by user identification/authentication and the user role, which defines user privileges and functions within the application.”

Retention and Disposal:

Delete entry and replace with “The characteristics of the Installation Support Modules applications require that data is kept on-line in the automated system for variable periods of time ranging from a few days after generation to indefinitely. Disposal of records is accomplished by purging them from the automated ISM system.

Individual ISM application records are maintained and disposed of in accordance with National Archives and Records Administration guidelines and guidance from the Headquarters Department of the Army Subject Area Functional Proponents as follows:

Central Issue Facility (CIF): CIF data is maintained on-line by the Installation Support Modules system for a period of two or more years (data creation through the end of the fiscal year plus two more fiscal years). At the end of the period (2+ years), records are automatically deleted by purging.

In/Out Processing (In/Out Proc): In-processing checklists (automated) are purged from the system by the Installation In-Processing operator upon completion of in-processing by the Soldier.

Transition Processing (TRANSPROC): Historical data pertaining to Soldiers separating from Active Duty will be maintained for a period of two years from separation date. After two years from separation date, the records are automatically deleted by purging. The records generated by Army Review Board Agency are maintained indefinitely. Copies of separation records (DD Form 214/215 and orders) are maintained in another Army automated system (iPERMS) for a period of 62 years at which time they are automatically purged from the iPERMS. The retention period for records in iPERMS is 62 years after the date of retirement, discharge, death in service, or 62 years after the completion of military service obligation. The date for transfer of ownership of the iPERMS records to the National Archives is 62 years.

Personnel Locator (PERSLOC): PERSLOC requires that the Individual Address Record information for departing soldiers be maintained on line for a period of twelve months and one day after the Soldier departs the Installation, then the records are automatically purged.

Education Management Information Management System (EDMIS): Soldier education data will be retained in active processing for the length of a Soldier's active duty tour, plus five years. After that period of time, the records are purged. Additionally, when the ISM system's hardware reaches end of life, the computer's hard drive is destroyed prior to sending the equipment to the Defense Reutilization and Marketing Office.

System manager(s) and address:

Delete entry and replace with “Project Director, Installation Management Systems-Army, 200 Stovall Street, Alexandria, VA 22332-6200.

Proponents for individual applications are:

Central Issue Facility (CIF): Deputy Chief of Staff for Logistics, Headquarters, Department of the Army, 500 Army Pentagon, Washington, DC 20310-0500.

In/Out Processing: Commander, U.S. Army Human Resources Command, Out-Processing Functional Proponent, 200 Stovall Street, Alexandria, Virginia 22332-0500.

Transition Processing (TRANSPROC): Commander, U.S. Army Human Resources Command, Retirements and Separations Branch, 200 Stovall Street, Alexandria, VA 22332-0500.

Personnel Locator (PERSLOC): Commander or supervisor of organization maintaining locator or directory. Official mailing addresses are published as an appendix to the Army's compilation of systems of records notices.

Education Management Information System (EDMIS): Commander, U.S. Army Human Resources Command, Education Division, 200 Stovall Street, Alexandria, VA 22332-0500.”

Notification procedure:

Delete entry and replace with “Individuals seeking to determine whether information about themselves is contained in this system should provide written inquiries for individual applications to the Project Director, Installation Management Systems-Army, 200 Stovall Street, Alexandria, VA 22332-6200.

The request should contain full name, and some detail such as organization of assignment, that can be verified, except that, in cases where individual has provided written consent to release of home address/telephone number to the general public, no identification is required.

Central Issue Facility (CIF): Property book officer at the installation where record is believed to exist.

Individual should provide his/her full name, installation at which a hand receipt holder, and any other information that may facilitate locating the record.

In/Out Processing (In/Out Proc): Administrative office of the installation/activity to which the individual had been assigned.

Individual should provide the full name, Social Security Number (SSN), departure date, location of last employing office, and signature.

Transition Processing (TRANSPROC): Commander, U.S. Army Human Resources Command, Retirements and Separations Branch, 200 Stovall Street, Alexandria, VA 22332-0478.

Individual should provide the full name, Social Security Number (SSN), military status, and if separated, date and location of separation.

Personnel Locator (PERSLOC): Commander or supervisor of organization to which individual is/was assigned or employed. Official mailing addresses are published as an appendix to the Army's compilation of systems of records notices procedure.

Individual should provide the full name, Social Security Number (SSN), military status, and if separated, date and location of separation.

Education Management Information System (EDMIS): Education Management Information System (EDMIS): Commander, U.S. Army Human Resources Command, Education Division, 200 Stovall Street, Alexandria, VA 22332-0500 or the installation's Privacy Act Officer.

For verification purposes, individual should provide their full name, Social Security Number (SSN), current address and telephone number and other personal identifying data that would assist in locating the records.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.”

Records access procedures:

Delete entry and replace with “Individuals seeking to access records about themselves contained in this system of records should address written inquiries to Project Director, Installation Management Systems-Army, 200 Stovall Street, Alexandria, VA 22332-6200.

Requests should contain the individual's full name, Social Security Number (SSN), current address, telephone number, when and where they were assigned during the contingency and notarized signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0600-8-101

System name:

Installation Support Modules Records

System location:

For systems maintained by Program Executive Office Enterprise Information Systems:

Project Director for Installation Management Systems—Army 200 Stovall Street, Alexandria, Virginia 22332-6200.

For application and database servers that support the Installation Support Modules Records system:

U.S. Army Signal Network Enterprise Center—Fort Belvoir 10105 Gridley Road, Fort Belvoir, VA 22060-5840;

U.S. Army Signal Network Enterprise Center—Fort Huachuca 2133 Cushing Street, Bldg 61801, Fort Huachuca, AZ 85613-7008.

Official mailing addresses are published as an appendix to the Army's compilation of systems of records notices, individual Installation Support Module Records application are accessible at:

Central Issue Facility (CIF): Property book offices and Central Issue Facilities' supply rooms at most Army activities world-wide, Active Army training activities, National Guard Armories, and U.S. Army Reserve units.

In/Out Processing (In/Out Proc): Administrative offices and Army Staff agencies, field operating commands, installations and/or activities Army wide.

Transition Processing: (TRANSPROC) Transition Centers at Active Army, Army National Guard and US Army Reserve Installations world-wide.

Personnel Locator: Segments are maintained by mailrooms and/or Army telephone information operators at Headquarters, Department of the Army, Staff and field operating agencies, commands, installations and activities.

Education Management Information System (EDMIS): Education Centers at Army installations and a centralized automated education registry transcript system is maintained Army Human Resources Command, 200 Stovall Street, Alexandria, VA 22332-6200.

Categories of individuals covered by the system: Active duty Army, Army Reserve and Army National Guard personnel and in some cases their family members. Additionally, individual applications cover the following categories:

Central Issue Facility (CIF): Civilian or other than Army military personnel who assume temporary custody or responsibility for United States Government property at Army.

Installation's Central Issue Facilities worldwide. Personnel Locator (PERSLOC): Department of the Army civilian employees, and in some instances their dependents.

Education Management Information System (EDMIS): Civilian employees, and in some instances their dependents.

Categories of records in the system:

Name, other names used, Social Security Number (SSN), citizenship, gender, race/ethnicity, birth date, marital status, financial information, medical information, law enforcement information, employment information, military records, education information, Army Knowledge Online (AKO) user ID, living or deceased, military/civilian/foreign national, skills. In addition to the data elements, individual applications maintain the following data:

Central Issue Facility (CIF): Clothing/Equipment issued to Soldiers or other than Army military personnel who assume temporary custody or responsibility for United States Government property.

In/Out Processing (In/Out Proc): Soldiers' personal cell phone number, home telephone number, personal e-mail address, mailing/home address, emergency contact, mother's maiden name, spouse information, and child information.

Transition Processing (TRANSPROC): Soldiers' personal cell phone number, home telephone number, personal e-mail address, mailing/home address, emergency contact, mother's maiden name, spouse information, child information, disability information, awards.

Personnel Locator (PERSLOC): Soldiers' mailing/home address, emergency contact.

Education Management Information System (EDMIS): Soldiers' personal cell phone number, home telephone number, personal e-mail address, mailing/home address, emergency contact, certifications/licensures.

Authority for maintenance of the system:

5 U.S.C. 301, Departmental Regulations; 10 U.S.C. 3013, Secretary of the Army; 10 U.S.C. 136, Under Secretary of Defense for Personnel and Readiness; DoD Instruction 1322.25, Voluntary Education Programs; DoD Instruction 1336.01, Certificate of Release or Discharge from Active Duty (DD Form 214/215 Series); Army Regulation 735-5, Policies and Procedures for Property Accountability; E.O. 9397 (SSN), as amended.

Purpose(s):

Provides an automated business practice for processing Soldiers, and selected civilians, to include focusing on Soldier readiness activities, in/out processing of Soldiers and family members, personnel location, management of educational records, issue and turn-in of organizational clothing and individual equipment, and Soldier transition.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD 'Blanket Routine Uses' set forth at the beginning of the Army's compilation of systems of records notices also apply to this system.

Education Management Information System (EDMIS): Information is disclosed to the Department of Labor, Bureau of Apprenticeship and Training for individuals enrolled in an Army Apprenticeship Program for the purpose of identifying Soldier's education and work qualifications for entry into the Department of Labor's Registered Apprenticeship Programs. Department of Labor's Registered Apprenticeship Programs help mobilize America's workforce with structured, on-the-job learning in traditional industries such as construction and manufacturing, as well as new emerging industries such as health care, information technology, energy, telecommunications and more.

Transition Processing (TRANSPROC): DD Form 214, Certificate of Release or Discharge from Active Duty, for Solders separating from the active Army is forwarded to Department of Veterans Affairs, Department of Labor, and State Directors of Veterans Affairs for the purpose of obtaining veterans benefits, re-employment rights and unemployment insurance.

Policies and practices for storing, retrieving, accessing, retaining, and disposing of records in the system:

Storage:

Electronic storage media.

Retrievability:

Name and Social Security Number (SSN).

Safeguards:

Records are protected from unauthorized disclosure by storage in areas accessible only to authorized personnel within buildings secured by locks or guards. The server hosting the database is also protected behind firewall and uses encryption during any data transfer. Access to Installation Support Module Records data by the users is restricted by the Web application itself (e.g., no use of open command lines) and is further limited by user identification/authentication and the user role, which defines user privileges and functions within the application. The Installation Support Module Records system uses Army Knowledge Online (AKO) as its single authoritative source for user authentication. Under AKO authentication, any user who wants to access any part of the ISM application must either use an AKO user name/password combination or a Common Access Card (CAC).

System manager(s) and address:

The Installation Support Module Records system is maintained by the Project Director Installation Management Systems-Army, 200 Stovall Street, Alexandria, VA 22332-6200. Proponents for individual applications are:

Central Issue Facility (CIF): Deputy Chief of Staff for Logistics, Headquarters, Department of the Army, 500 Army Pentagon, Washington, DC 20310-0500.

In/Out Processing: Commander, U.S. Army Human Resources Command, Out-Processing Functional Proponent, 200 Stovall Street, Alexandria, Virginia 22332-0500.

Transition Processing (TRANSPROC): Commander, U.S. Army Human Resources Command, Retirements and Separations Branch, 200 Stovall Street, Alexandria, VA 22332-0500.

Personnel Locator (PERSLOC): Commander or supervisor of organization maintaining locator or directory. Official mailing addresses are published as an appendix to the Army's compilation of systems of records notices.

Education Management Information System (EDMIS): Commander, U.S. Army Human Resources Command, Education Division, 200 Stovall Street, Alexandria, VA 22332-0500.

Notification procedure:

Individuals seeking to determine whether information about themselves is contained in these systems should address written inquiries to Project Director, Installation Management Systems-Army, 200 Stovall Street, Alexandria, VA 22332-6200. Address written inquiries for individual applications follows:

Central Issue Facility (CIF): Property book officer at the installation where record is believed to exist. Individual should provide his/her full name, installation at which a hand receipt holder, and any other information that may facilitate locating the record.

In/Out Processing (In/Out Proc): Administrative office of the installation/activity to which the individual had been assigned. Individual should provide the full name, Social Security Number (SSN), departure date, location of last employing office, and signature.

Transition Processing (TRANSPROC): Commander, U.S. Army Human Resources Command, Retirements and Separations Branch, 200 Stovall Street, Alexandria, VA 22332-0478. Individual should provide the full name, Social Security Number (SSN), military status, and if separated, date and location of separation.

Personnel Locator (PERSLOC): Commander or supervisor of organization to which individual is/was assigned or employed. Official mailing addresses are published as an appendix to the Army's compilation of systems of records notices procedure.

Education Management Information System (EDMIS): Commander, U.S. Army Human Resources Command, Education Division, 200 Stovall Street, Alexandria, VA 22332-0500 or the installation's Privacy Act Officer. For verification purposes, individual should provide full name, rank, and Social Security Number (SSN).

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Records access procedure:

Individuals seeking access to information about themselves contained in this system should address written inquiries to the Project Director Installation Management Systems-Army, 200 Stovall Street, Alexandria, VA 22332-6200.

For verification purposes, individual should provide their full name, Social Security Number (SSN), current address and telephone number and other personal identifying data that would assist in locating the records.

In addition, the requester must provide a notarized statement or an unsworn declaration made in accordance with 28 U.S.C. 1746, in the following format:

If executed outside the United States: “I declare (or certify, verify, or state) under penalty of perjury under the laws of the United States of America that the foregoing is true and correct. Executed on (date). (Signature)”.

If executed within the United States, its territories, possessions, or commonwealths: “I declare (or certify, verify, or state) under penalty of perjury that the foregoing is true and correct. Executed on (date). (Signature)”.

Contesting record procedures:

The Army's rules for accessing records and for contesting contents and appealing initial agency determinations are contained in Army Regulation 340-21; 32 CFR part 505; or may be obtained from the system manager.

Record source categories:

Other than entering the data via the application, personnel data is also received from external systems: the Army's electronic Military Personnel Office (eMILPO), Total Army Personnel Database-Guard (TAPDB-G), and Total Army Personnel Database-Reserve (TAPDB-R) system.

Exemptions claimed for the system:

None.

[FR Doc. 2010-9392 Filed 4-22-10; 8:45 am]

BILLING CODE 5001-06-P